DEPARTMENT OF THE INTERIOR

Bureau of Land Management

[NV-030-03-1020-241A]

Sierra Front-Northwestern Great Basin Resource Advisory Council; Notice of Revised Meeting Locations and Times

AGENCY: Bureau of Land Management, Interior.

ACTION: Notice of rescheduled meetings locations and times for the Sierra Front-Northwestern Great Basin Resource Advisory Council (Nevada).

SUMMARY: In accordance with the Federal Land Policy and Management Act and the Federal Advisory Committee Act of 1972 (FACA), meetings of the U.S. Department of the Interior, Bureau of Land Management (BLM) Sierra Front-Northwestern Great Basin Resource Advisory Council (RAC), Nevada, will be held as indicated below. Topics for discussion at each meeting will include, but are not limited to: April 29-30, 2003 (Fallon, Nevada)-recreational use and tourism promotion of public lands in western Nevada by State of Nevada agencies, Sand Mountain Fee Demonstration Project (including a field trip to Sand Mountain), subcommittee presentation of the Black Rock-High Rock NCA Resource Management Plan, staff update on the Pine Nut Mountains RMP Amendment, and a report on planning progress for the Mustang Ranch; and July 15-17, 2003 (Winnemucca, Nevada)-aspen clone habitat degradation and future management, Sage Grouse program review, field office reports on land fills/mine reclamation, and inspection of riparian habitat sites including an overnight camping trip in the Winnemucca Field Office area. Manager's reports of field office activities will be given at each meeting. The council may raise other topics at any of the two planned meetings.

These two rescheduled meetings are replacing dates/locations originally published in the Federal Register for April 24-25 (Reno, Nevada) and July 24-25 (Winnemucca, Nevada).

Dates & Times: The RAC will now meet on April 29-30 (Tuesday and Wednesday), at the Fallon Convention Center (Oasis Room), 100 Campus Way, Fallon, Nevada (including a field trip to the Sand Mountain Recreation Area); and on July 15-17 (Tuesday through Thursday), at the BLM-Winnemucca Field Office, 5100 E. Winnemucca, Blvd., Winnemucca, Nevada (including an overnight field trip on July 16—details to be outlined by July 1, 2003). All meetings and field trips are open to the public. Each meeting will last from approximately 8 a.m. to 4 p.m., plus, a general public comment period, where the public may submit oral or written comments to the RAC, will be at 4 p.m. on the first day of each meeting, unless otherwise listed in each specific, final meeting agenda.

Final detailed agendas, with any additions/corrections to agenda topics, locations, field trips and meeting times, will be available on the internet at least 14 days before each meeting, at www.nv.blm.gov/rac; hard copies can also be mailed or sent via FAX. Individuals who need special assistance such as sign language interpretation or other reasonable accommodations, or who wish a hard copy of each agenda, should contact Mark Struble, Carson City Field Office, 5665 Morgan Mill Road, Carson City, NV 89701, telephone (775) 885-6107 no later than 10 days prior to each meeting.

FOR FURTHER INFORMATION CONTACT: Mark Struble, Public Affairs Officer, BLM Carson City Field Office, 5665 Morgan Mill Road, Carson City, NV 89701. Telephone: (775) 885-6107. E-mail: mstruble@nv.blm.gov

Dated: February 24, 2003.
John O. Singlaub,
Field Manager, Carson City Field Office.

[FR Doc. 03-4736 Filed 2-27-03; 8:45 am]

BILLING CODE 4310-HC-P